Title 3—

The President

Executive Order 13385 of September 29, 2005

Continuance of Certain Federal Advisory Committees and Amendments to and Revocation of Other Executive Orders

By the authority vested in me as President by the Constitution and the laws of the United States of America, and consistent with the provisions of the Federal Advisory Committee Act, as amended (5 U.S.C. App.), it is hereby ordered as follows:

Section 1. Each advisory committee listed below is continued until September 30, 2007.

(a) Committee for the Preservation of the White House; Executive Order 11145, as amended (Department of the Interior).

(b) National Infrastructure Advisory Council; section 3 of Executive Order 13231, as amended (Department of Homeland Security).

(c) Federal Advisory Council on Occupational Safety and Health; Executive Order 12196, as amended (Department of Labor).

(d) President's Board of Advisors on Historically Black Colleges and Universities; Executive Order 13256 (Department of Education).

(e) President's Board of Advisors on Tribal Colleges and Universities; Executive Order 13270 (Department of Education).

(f) President's Commission on White House Fellowships; Executive Order 11183, as amended (Office of Personnel Management).

(g) President's Committee for People with Intellectual Disabilities; Executive Order 12994, as amended (Department of Health and Human Services).

(h) President's Committee on the Arts and the Humanities; Executive Order 12367, as amended (National Endowment for the Arts).

(i) President's Committee on the International Labor Organization; Executive Order 12216, as amended (Department of Labor).

(j) President's Committee on the National Medal of Science; Executive Order 11287, as amended (National Science Foundation).

(k) President's Council of Advisors on Science and Technology; Executive Order 13226, as amended (Office of Science and Technology Policy).

(l) President's Council on Bioethics; Executive Order 13237 (Department of Health and Human Services).

(m) President's Council on Physical Fitness and Sports; Executive Order 13265 (Department of Health and Human Services).

(n) President's Export Council; Executive Order 12131, as amended (Department of Commerce).

(o) President's National Security Telecommunications Advisory Committee; Executive Order 12382, as amended (Department of Homeland Security).

(p) Trade and Environment Policy Advisory Committee; Executive Order 12905 (Office of the United States Trade Representative).

Sec. 2. Notwithstanding the provisions of any other Executive Order, the functions of the President under the Federal Advisory Committee Act that are applicable to the committees listed in section 1 of this order shall be performed by the head of the department or agency designated after each committee, in accordance with the guidelines and procedures established by the Administrator of General Services.

Sec. 3. The following Executive Orders that established committees that have terminated or whose work is completed are revoked:

(a) Executive Order 13328, establishing the Commission on the Intelligence Capabilities of the United States Regarding Weapons of Mass Destruction; and

(b) Executive Order 13326, establishing the President's Commission on Implementation of United States Space Exploration Policy.

Sec. 4. Sections 1 and 2 of Executive Order 13316 are superseded by sections 1 and 2 of this order.

Sec. 5. Section 3 of Executive Order 13231, as amended, is further amended by striking section 3, except subsection (c) thereof, and inserting immediately preceding subsection (c), the following:

“Sec. 3. The National Infrastructure Advisory Council. The National Infrastructure Advisory Council (NIAC), established on October 16, 2001, shall provide the President through the Secretary of Homeland Security with advice on the security of the critical infrastructure sectors and their information systems.

(a) Membership. The NIAC shall be composed of not more than 30 members appointed by the President, taking appropriate account of the benefits of having members (i) from the private sector, including but not limited to banking and finance, transportation, energy, communications, and emergency services organizations and institutions of higher learning, and State, local, and tribal governments, (ii) with senior leadership responsibilities for the reliability and availability, which include security, of the critical infrastructure and key resource sectors, (iii) with expertise relevant to the functions of the NIAC, and (iv) with experience equivalent to that of a chief executive of an organization. Unless otherwise determined by the President, no full-time officer or employee of the executive branch shall be appointed to serve as a member of the NIAC. The President shall designate from among the members of the NIAC a Chair and a Vice Chair, who shall perform the functions of the Chair if the Chair is absent, disabled, or in the instance of a vacancy in the Chair.

(b) Functions of the NIAC. The NIAC shall meet periodically to:

(i) enhance the partnership of the public and private sectors in protecting critical infrastructures and their information systems and provide reports on this issue to the President through the Secretary of Homeland Security, as appropriate;

(ii) propose and develop ways to encourage private industry to perform periodic risk assessments;

(iii) monitor the development and operations of private sector coordinating councils and their information sharing mechanisms and provide recommendations to the President through the Secretary of Homeland Security on how these organizations can best foster improved cooperation among the sectors, the Department of Homeland Security, and other Federal Government entities;

(iv) report to the President through the Secretary of Homeland Security, who shall ensure appropriate coordination with the Assistant to the President for Homeland Security and Counterterrorism, the Assistant to the President for Economic Policy, and the Assistant to the President for National Security Affairs under the terms of this order; and

(v) advise sector specific agencies with critical infrastructure responsibilities to include issues pertaining to sector and government coordinating councils and their information sharing mechanisms.”

In implementing this order, the NIAC shall not advise or otherwise act on matters pertaining to National Security and Emergency Preparedness (NS/EP) Communications and, with respect to any matters to which the NIAC is authorized by this order to provide advice or otherwise act on that may depend upon or affect NS/EP Communications, shall coordinate with the National Security and Telecommunications Advisory Committee established by Executive Order 12382, as amended.

Sec. 6. Executive Order 12367, as amended, is further amended by:

(a) Striking “including the Millennium” in section 2;

(b) Changing the title of section 3 to read “Administrative and Project Support”; and

(c) Adding the following new subsection 3(c):

(c) Additional project support may be provided, to the extent permitted by law, by the Director of the Institute of Museum and Library Services after consultation with the Chairpersons of the National Endowment for the Arts and the National Endowment for the Humanities.”.

Sec. 7. Executive Order 12216, as amended, is further amended by revising subsection 1-101 to read as follows:

“1-101. There is established the President's Committee on the International Labor Organization (ILO). The members will be the Secretaries of Labor, State, and Commerce, the Assistant to the President for National Security Affairs, the Assistant to the President for Economic Policy, and one representative each from organized labor and the business community, to be designated by the Secretary of Labor.”

Sec. 8. Executive Order 13226, as amended, is further amended by:

(a) Striking “not more than 25 members,” in section 1 and inserting in lieu thereof “not more than 45 members,”;

(b) Striking “24 of whom” in section 1 and inserting in lieu thereof “44 of whom”; and

(c) Adding the following new subsection 2(d):

“(d) PCAST shall serve as the President's Information Technology Advisory Committee under subsections 101(b) and 103(b) of the High-Performance Computing Act of 1991 (Public Law 102-194), as amended (15 U.S.C. 5511(b) and 5513(b)).”.

Sec. 9. Executive Order 13283 is revoked.

Sec. 10. This order shall be effective September 30, 2005.

B

THE WHITE HOUSE,

September 29, 2005.

[FR Doc. 05-19993

Filed 10-3-05; 8:45 am]

Billing code 3195-01-P